DEPARTMENT OF ENERGY

Federal Energy Regulatory Commission

[Docket No. CP02-52-000]

Iroquois Gas Transmission System, L.P.; Notice of Application

December 28, 2001.

Take notice that on December 14, 2001, Iroquois Gas Transmission System, L.P. (Iroquois), One Corporate Drive, Suite 600, Shelton, Connecticut 06484, filed an application in the above-referenced docket number pursuant to section 7(c) of the Natural Gas Act and parts 157 of the Commission's rules and regulations, for a certificate of public convenience and necessity authorizing Iroquois to construct and operate its Eastern Long Island Expansion Project (ELI Project) all as more fully set forth in the application which is on file with the Commission and open to public inspection. This filing may be viewed on the web at http://www.ferc.gov using the “RIMS” link, select “Docket#” and follow the instructions (please call 202-208-2222 for assistance).

Specifically, Iroquois requests authorization to construct and operate the following facilities: (i) 29.1 miles of 20-inch pipeline from a point offshore of Milford, Connecticut to a point in Brookhaven, Suffolk County, New York; (ii) a new compressor unit, with 20,000 (nominal) horsepower, in Milford, Connecticut; (iii) cooling facilities at the Dover, New York compressor station; (iv) various ancillary facilities at the existing Brookfield, Connecticut meter station; (v) various ancillary facilities associated with a new interconnection with the facilities of KeySpan Energy Delivery Long Island in Brookhaven, New York; and (vi) other necessary facilities, such as a tap valve in Long Island Sound, three mainline valves, pig launchers/receivers and temporary facilities, including pipe yards, storage yards, access roads and staging areas.

Iroquois states that the facilities are designed to provide approximately 175,000 dekatherms per day of firm transportation service to the eastern end of Long Island, and will be made pursuant to its Part 284 subpart G blanket certificate. Iroquois has executed precedent agreements with the following shippers:

• Consolidated Edison Energy, Inc., 10,000 dekatherms per day;

• Engage Energy America, LLC, 50,000 dekatherms per day;

• Long Island Power Authority, 160,000 dekatherms per day;

• Mirant Americas, Inc., 80,000 dekatherms per day; and

• New York Power Authority, 40,000 dekatherms per day.

Iroquois states that because the precedent agreements currently provide for firm transportation of 340,000 dekatherms per day which exceeds the capacity of the facilities, pro-ration of capacity among the shippers may be necessary; Iroquois expects to make a decision on any such pro-ration no later than March 1, 2003.

The total cost of the ELI Project is estimated to be about $105 million. Iroquois proposes to charge shippers its firm transportation rate in effect under its RTS rate schedule, plus an incremental surcharge, which, in total, is designed to recover the costs of the proposed facilities.

In order to meet a service commencement date of November 1, 2004, Iroquois requests that the Commission issue a preliminary determination on non-environmental aspects of the ELI Project by July 1, 2002, with final authorization no later than July 1, 2003.

Any questions regarding the application be directed to Jeffrey A. Bruner, Vice President, General Counsel and Secretary for Iroquois, One Corporate Drive, Suite 600, Shelton, Connecticut 06484, at 203-925-7200, or Donald F. Sanata, Jr., Troutman Saunders, LLP, 401 Ninth Street, NW, Suite 1000, Washington, DC 20004, at 202-274-2815.

There are two ways to become involved in the Commission's review of this project. First, any person wishing to obtain legal status by becoming a party to the proceedings for this project should, on or before January 18, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 02-172 Filed 1-3-02; 8:45 am]

BILLING CODE 6717-01-P